DEPARTMENT OF TRANSPORTATION

Federal Transit Administration

Announcement of Fiscal Year 2023 Low or No Emission Program and Grants for Buses and Bus Facilities Program and Project Selections

AGENCY: Federal Transit Administration (FTA), Department of Transportation (DOT).

ACTION: Notice; Announcement of Project Selections.

SUMMARY: The U.S. Department of Transportation's (DOT) Federal Transit Administration (FTA) announces the award of a total of $1,689,864,104, including $1,216,941,397 to projects under the Fiscal Year (FY) 2023 Low or No Emission Grant Program (Low-No) and $472,922,707 to projects under the Grants for Buses and Bus Facilities Program (Buses and Bus Facilities Program) and provides administrative guidance on project implementation.

FOR FURTHER INFORMATION CONTACT: Successful applicants should contact the appropriate FTA Regional Office for information regarding applying for the funds or program-specific information. A list of Regional Offices can be found at https://www.transit.dot.gov/about/regional-offices/regional-offices. Unsuccessful applicants may contact Kirsten Wiard-Bauer, Office of Program Management at 202-366-7052, or email: ftalownobusnofo@dot.gov within 30 days of this announcement to arrange a proposal debriefing. A TDD is available at 1-800-877-8339 (TDD/FIRS).

SUPPLEMENTARY INFORMATION: Federal public transportation law (49 U.S.C. 5339(b)) authorizes FTA to make competitive grants for the Buses and Bus Facilities Program. Federal public transportation law (49 U.S.C. 5339(c)) authorizes FTA to make competitive grants for the Low-No Program.

Federal public transportation law (49 U.S.C. 5338(a)(2)(N)) authorized $383,544,933 in FY 2023 funds for the Buses and Bus Facilities Program. The Consolidated Appropriations Act, 2023, appropriated an additional $90,000,000 for the Buses and Bus Facilities Program in addition to the authorized amount noted above. After the oversight takedown of $4,099,509, the total funding available is $469,445,424 for the Buses and Bus Facilities Program. FTA is also making additional prior year(s) funding available for this round, bringing the total available funding to $473,075,256.

Federal public transportation law (49 U.S.C. 5338(a)(2)(N)) authorized $73,056,178 in FY 2023 funds for the Low or No Emission Grant Program; an additional $1,029,000,000 appropriated under the 2021 Bipartisan Infrastructure Law (enacted as the Infrastructure Investment and Jobs Act, Public Law 117-58) after accounting for the authorized takedown for administrative and oversight expenses and the Office of Inspector General (OIG). The Consolidated Appropriations Act, 2023 (Pub. L. 117-328), appropriated an additional $49,625,000 for the Low or No Emission Grant Program after accounting for the authorized oversight takedown in addition to the authorized amount noted above. Further, due to less funding being requested than funding available during the FY 2022 competition for low-emission projects, $69,668,939 of FY 2022 Low-No Program funds remained available for award, of which $69,192,987 is reserved for low-emission projects as required by statute. After the oversight takedown and transfer to the OIG, and the addition of prior year(s) funding, a grand total of $1,221,466,973 was made available for the Low-No program in FY 2023.

On January 27, 2023, FTA published a joint Notice of Funding Opportunity (NOFO) (88 FR 5400) announcing the availability of approximately $469 million in FY 2023 Buses and Bus Facilities Program funds and approximately $1.22 billion in Low-No funds. Consistent with the NOFO, which stated that FTA “may award additional funding that is made available to the programs prior to the announcement of project selections,” FTA is electing to add prior year(s) unallocated funds for Buses and Bus Facilities Program and Low-No to this funding opportunity. These funds will provide financial assistance to states and eligible public agencies to replace, rehabilitate, purchase, or lease buses, vans, and related equipment, and for capital projects to rehabilitate, purchase, construct, or lease bus-related facilities. For the Low-No Program, projects must be directly related to the low or no-emission vehicles within the fleet. In response to the NOFO, FTA received 475 eligible project proposals totaling approximately $8.7 billion in Federal funds. Project proposals were evaluated based on each applicant's responsiveness to the program evaluation criteria outlined in the NOFO.

Based on the criteria in the NOFO, FTA is funding 83 projects, as shown in Table 1, for a total of $1,216,941,397 for the Low-No Program and 47 projects, as shown in Table 2, for a total of $472,922,707 for the Buses and Bus Facilities Program. A minimum of 15 percent of the amounts made available for the Buses and Bus Facilities Program are set aside for projects located in rural areas, which is reflected in FTA's selections. A statutory cap of 10 percent for any one applicant in the Buses and Bus Facilities Program is also reflected. A minimum of 25 percent of the amounts made available for the Low-No Program are set aside for projects related to the acquisition of low-emission buses or bus facilities other than zero-emission vehicles and related facilities, which is reflected as well. Recipients selected for competitive funding are required to work with their FTA Regional Office to submit a grant application in FTA's Transit Award Management System (TrAMS) for the projects identified in the attached tables to quickly obligate funds. Grant applications must include only eligible activities applied for in the original project application. Funds must be used consistent with the competitive proposal and for the eligible capital purposes described in the NOFO.

In cases where the allocation amount is less than the proposer's total requested amount, recipients are required to fund the scalable project option as described in the application. If the award amount does not correspond to the scalable option, the recipient should work with the Regional Office to reduce scope or scale the project such that a complete phase or project is accomplished. Recipients may also provide additional local funds to complete a proposed project. A discretionary project identification number has been assigned to each project for tracking purposes and must be used in the TrAMS application.

Selected projects are eligible to incur costs under pre-award authority no earlier than the date projects were publicly announced. Pre-award authority does not guarantee that project expenses incurred prior to the award of a grant will be eligible for reimbursement, as eligibility for reimbursement is contingent upon other requirements, such as planning and environmental requirements, having been met. For more about FTA's policy on pre-award authority, please see the current FTA Apportionments, Allocations, and Program Information at https://www.transit.dot.gov/funding/apportionments. Post-award reporting requirements include submission of Federal Financial Reports and Milestone Progress Reports in TrAMS (see FTA Circular 5010.1E). Recipients must comply with all applicable Federal statutes, regulations, executive orders, FTA circulars, and other Federal requirements in carrying out the project supported by the FTA grant. FTA emphasizes that recipients must follow all third-party procurement requirements set forth in Federal public transportation law (49 U.S.C. 5325(a)) and described in the FTA Third Party Contracting Guidance Circular (FTA Circular 4220.1). Funds allocated in this announcement must be obligated in a grant by September 30, 2026.

Technical Review and Evaluation Summary: The FTA assessed all project proposals submitted under the FY 2023 Buses and Bus Facilities Program and the Low-No Program competition according to the following evaluation criteria. The specific metrics for each criterion were described in the January 27, 2023, NOFO:

1. Demonstration of Need

2. Demonstration of Benefits

3. Planning/Local Prioritization

4. Local Financial Commitment

5. Project Implementation Strategy

6. Technical, Legal, and Financial Capacity

For each project, a technical review panel assigned a rating of Highly Recommended, Recommended, or Not Recommended for each of the six criteria. The technical review panel then assigned an overall rating of Highly Recommended, Recommended, Not Recommended, or Ineligible to the project proposal.

Projects were assigned a final overall rating of Highly Recommended if they were rated Highly Recommended in at least four categories and did not receive a Not Recommended rating. Projects were assigned a final overall rating of Recommended if the projects had three or more Recommended ratings and no Not Recommended ratings. Projects were assigned a rating of Not Recommended if they received a Not Recommended rating in any criteria. A summary of the final overall ratings for all 475 eligible project proposals is shown in the Overall Project Ratings table below.

Overall Project Ratings
[Eligible submissions]
| Bus | Low-No | Total
Highly Recommended | 184 | 158 | 342
Recommended | 34 | 23 | 57
Not Recommended | 47 | 29 | 76
Total | 265 | 210 | 475

As outlined in the NOFO, FTA made the final selections based on the technical ratings as well as geographic diversity, diversity in the size of transit systems receiving funding, additional considerations/administration priorities including climate change, the creation of good-paying jobs, an application's zero-emission fleet transition plan supporting a full fleet transition, procurement methods to reduce customization, and the Justice40 initiative.

As further outlined in the NOFO, in some cases, due to funding limitations, proposals that were selected for funding received less than the amount originally requested.

Nuria I. Fernandez,
Administrator.

Table 1—FY 2023 Low or No Emission Project Selections
[Note: some projects have multiple project IDs]
State | Recipient | Project ID | Project description | Award
AL | Alabama Agricultural and Mechanical University | D2023-LWNO-001 | Upgrade infrastructure and facilities to include solar power and purchase battery electric buses | $8,122,850
AR | City of Jonesboro, Arkansas | D2023-LWNO-002 | Replace diesel buses with hybrid electric buses | 1,010,372
AZ | City of Tucson, Sun Tran | D2023-LWNO-003 | Replace diesel buses with CNG | 21,490,560
AZ | Regional Public Transportation Authority | D2023-LWNO-004 | Replace diesel and CNG buses with battery electric buses, and workforce training for new technologies | 13,295,699
CA | Alameda-Contra Costa Transit District | D2023-LWNO-011 | Retrofit a Training and Education center to include a bus maintenance and a zero emission technologies learning space. Purchase fuel cell electric buses | 25,513,684
CA | City of Anaheim | D2023-LWNO-006 | Purchase battery electric buses, install charging equipment, and construct Bus Rapid Transit stops | 3,609,800
CA | City of Santa Rosa | D2023-LWNO-007 | Replace diesel buses with battery electric buses and install chargers | 9,899,120
CA | Golden Empire Transit | D2023-LWNO-010 | Purchase CNG buses | 5,750,351
CA | North County Transit District (NCTD) | D2023-LWNO-005 | Purchase hydrogen fuel-cell electric buses (FCEB) and create an Advanced Transportation apprenticeship program in partnership with a local college | 29,330,243
CA | State of California on behalf of Glenn County Transportation Commission | D2023-LWNO-008 | Purchase hybrid electric buses | 3,400,000
CA | State of California on behalf of Kern Regional Transit | D2023-LWNO-009 | Purchase CNG buses | 3,248,500
CO | City of Colorado Springs dba Mountain Metropolitan Transit | D2023-LWNO-015 | Replace diesel buses with hybrid electric buses | 3,199,038
CO | Mesa County | D2023-LWNO-013 | Purchase CNG buses | 1,162,000
CO | The Colorado Department of Transportation (CDOT) on behalf of Mountain Express Transit | D2023-LWNO-014 | Purchase propane vehicles and associated maintenance facility upgrades | 753,118
CO | The Colorado Department of Transportation (CDOT) on behalf of the Town of Winter Park | D2023-LWNO-012 | Purchase battery electric bus and a charger | 1,145,951
CT | State of Connecticut Department of Transportation | D2023-LWNO-016 | Purchase battery electric buses, related charging infrastructure and associated facilities and power upgrades | 26,437,120
DC | Washington Metropolitan Area Transit Authority | D2023-LWNO-017/D2023-LWNO-018 | Purchase battery electric buses, convert an existing facility to a fully battery-electric bus facility and fund workforce development | 104,000,000
DE | Delaware Transit Corporation | D2023-LWNO-019 | Purchase battery electric and hydrogen fuel cell buses | 8,740,728
FL | City of Ocala | D2023-LWNO-020 | Purchase battery electric buses and associated charging and facility upgrades, including expansion of existing maintenance facility | 16,166,822
GA | Georgia State University | D2023-LWNO-021 | Purchase battery electric buses and associated infrastructure | 22,286,745
HI | Honolulu Department of Transportation Services | D2023-LWNO-022 | Purchase battery electric buses and chargers | 20,000,000
IA | City of Dubuque | D2023-LWNO-024 | Purchase battery electric buses and chargers | 2,359,072
IA | City of Iowa City | D2023-LWNO-023 | Replace aged transit facility and replace diesel buses with battery electric buses | 23,280,546
IL | Champaign-Urbana Mass Transit District | D2023-LWNO-027 | Purchase hybrid electric buses | 6,635,394
IL | Illinois Department of Transportation on behalf of 24 subrecipients | D2023-LWNO-026 | Purchase battery-electric paratransit buses and associated charging infrastructure for 24 subrecipients | 12,299,377
IL | Rockford Mass Transit District | D2023-LWNO-025 | Purchase hybrid electric buses | 4,094,652
IN | Indianapolis Public Transportation Corporation (IndyGo) | D2023-LWNO-028 | Purchase hybrid electric buses | 19,040,336
KS | Topeka Metropolitan Transit Authority | D2023-LWNO-029 | Purchase battery electric buses | 7,305,526
LA | New Orleans Regional Transit Authority | D2023-LWNO-030 | Purchase battery electric buses and charging infrastructure; build out microgrid; re-tool the maintenance program and provide workforce development | 71,439,261
MA | Berkshire Regional Transit Authority | D2023-LWNO-033 | Purchase hybrid electric buses and maintenance facility improvements | 2,212,747
MA | Lowell Regional Transit Authority | D2023-LWNO-032 | Purchase hybrid electric buses | 6,859,296
MA | Southeastern Regional Transit Authority | D2023-LWNO-034 | Purchase hybrid electric buses | 11,560,000
MA | The Brockton Area Transit Authority | D2023-LWNO-031 | Purchase battery electric buses and related charging infrastructure | 10,694,736
MD | University of Maryland, College Park | D2023-LWNO-035 | Purchase battery electric buses and related charging infrastructure | 39,863,156
MI | Interurban Transit Partnership | D2023-LWNO-036 | Purchase CNG buses | 6,197,180
MN | Metro Transit | D2023-LWNO-037 | Purchase battery-electric buses to replace diesel buses, as well as chargers, maintenance equipment, and workforce development | 17,532,900
MN | Minnesota Department of Transportation on behalf of 2 rural transit agencies | D2023-LWNO-038 | Purchase propane buses and supporting fueling infrastructure | 1,456,970
MN | White Earth Reservation Business Committee | D2023-LWNO-039 | Bus replacement with fareboxes | 723,171
MS | City of Hattiesburg | D2023-LWNO-040 | Replace diesel buses with battery electric buses and purchase associated charging infrastructure | 6,455,325
MS | Coast Transit Authority dba MS Coast Transportation Authority | D2023-LWNO-041 | Purchase propane buses | 1,760,000
MT | Missoula Urban Transportation District | D2023-LWNO-042 | Replace the current operations facility with a new Maintenance Operations Administration Base | 39,142,124
NC | Cape Fear Public Transportation Authority | D2023-LWNO-045 | Purchase CNG buses | 2,860,250
NC | North Carolina Department of Transportation on behalf of ICPTA | D2023-LWNO-044 | Construction of an operations and maintenance facility for propane vehicles | 3,326,067
NC | Research Triangle Regional Public Transportation Authority | D2023-LWNO-043 | Purchase charging equipment and associated facility rehabilitation | 1,672,000
NM | City of Albuquerque | D2023-LWNO-046 | Purchase battery electric buses and charging infrastructure | 18,262,255
NM | New Mexico Department of Transportation on behalf of North Central Regional Transit District | D2023-LWNO-047 | Purchase hybrid electric buses | 2,063,160
NV | Regional Transportation Commission of Washoe County | D2023-LWNO-048 | Purchase hydrogen fuel cell buses and associated fueling infrastructure | 8,784,606
NV | Tahoe Transportation District | D2023-LWNO-049 | Purchase hybrid electric buses and vans | 3,400,000
NY | Niagara Frontier Transportation Authority | D2023-LWNO-050 | Purchase battery electric buses and charging infrastructure | 28,947,368
OH | Ohio Department of Transportation (ODOT) on behalf of 10 subrecipients | D2023-LWNO-051 | Purchase battery electric buses, charging infrastructure and associated facilities upgrades | 29,331,665
OH | Southwest Ohio Regional Transit Authority | D2023-LWNO-052 | Purchase hybrid electric buses | 9,806,428
OK | Central Oklahoma Transportation and Parking Authority (COTPA), dba EMBARK | D2023-LWNO-054 | Purchase CNG buses | 4,278,772
OK | City of Norman, Oklahoma | D2023-LWNO-055 | Purchase CNG paratransit vehicles | 776,714
OK | Comanche Nation | D2023-LWNO-053 | Vehicle replacement | 300,000
OK | Seminole Nation of Oklahoma | D2023-LWNO-056 | Purchase propane vehicles, a new maintenance facility and a propane fueling station | 6,407,460
OR | Oregon Department of Transportation on behalf of Central Oregon Intergovernmental Council | D2023-LWNO-057 | Purchase hybrid electric vehicles for microtransit services | 181,250
OR | Rogue Valley Transportation District | D2023-LWNO-058 | Purchase hybrid electric buses | 3,937,500
OR | Salem Area Mass Transit District | D2023-LWNO-059 | Purchase battery electric buses and supporting infrastructure | 6,586,104
PA | Southeastern Pennsylvania Transportation Authority | D2023-LWNO-060/D2023-LWNO-061 | Improve utility infrastructure at six bus facilities | 80,000,000
PR | AUTORIDAD METROPOLITANA DE AUTOBUSES (PRMBA) | D2023-LWNO-062 | Purchase battery electric buses | 10,000,000
RI | Rhode Island Public Transit Authority | D2023-LWNO-063 | Purchase hybrid electric buses | 5,000,000
SC | Charleston Area Regional Transportation Authority | D2023-LWNO-064 | Purchase battery electric buses, chargers, and facility improvements for workforce development | 25,906,730
SC | Greenville Transit Authority d.b.a. Greenlink | D2023-LWNO-065 | Purchase CNG buses and a CNG station | 6,341,306
SD | South Dakota Department of Transportation on behalf of RCPT, PHT, and PT | D2023-LWNO-066 | Purchase propane buses | 1,276,628
TN | City of Knoxville | D2023-LWNO-067 | Purchase and install overhead bus charging units | 3,645,000
TX | City of Beaumont | D2023-LWNO-068 | Purchase CNG buses | 2,819,460
TX | City of Brownsville | D2023-LWNO-069 | Purchase hybrid electric buses | 4,738,886
TX | Conroe Connection Transit | D2023-LWNO-070 | Purchase CNG vehicles | 4,500,000
TX | Dallas Area Rapid Transit (DART) | D2023-LWNO-071/D2023-LWNO-072 | Purchase CNG buses | 103,000,000
TX | Metropolitan Transit Authority of Harris County (METRO) | D2023-LWNO-073 | Purchase CNG buses and CNG/RNG fueling station | 40,402,548
TX | Port Arthur Transit/City of Port Arthur | D2023-LWNO-075 | Purchase battery electric buses, chargers, and associated infrastructure | 5,001,700
TX | San Antonio Metropolitan Transit Authority | D2023-LWNO-076 | Purchase propane paratransit vehicles | 3,187,200
TX | Texas Department of Transportation on behalf of 29 rural transportation districts | D2023-LWNO-074 | Purchase buses and develop five facility projects throughout Texas | 7,443,765
TX | The City of Waco (dba Waco Transit System, Inc) | D2023-LWNO-077 | Purchases battery electric buses and charging stations | 3,133,129
UT | Utah Transit Authority | D2023-LWNO-078/D2023-LWNO-079 | Purchase CNG buses and associated equipment | 17,055,353
VA | City of Alexandria | D2023-LWNO-080 | Purchase battery electric buses and charging equipment; fund workforce development and utility infrastructure upgrades | 23,984,700
VA | Loudoun County | D2023-LWNO-081 | Purchase CNG buses and a CNG/RNG fueling station | 13,880,910
VT | Vermont Agency of Transportation (VTrans) | D2023-LWNO-082 | Purchase battery electric buses | 22,469,312
WA | King County Metro Transit | D2023-LWNO-084 | Purchase battery electric buses | 33,552,634
WA | Whatcom Transportation Authority (WTA) | D2023-LWNO-083 | Purchase hybrid electric buses | 9,644,865
WI | City of Beloit | D2023-LWNO-086/D2023-LWNO-087 | Purchase battery electric bus | 653,184
WI | City of Madison | D2023-LWNO-085 | Purchase battery electric buses, chargers, solar panels, and bus depot rehabilitation | 37,962,840
WY | Wyoming Department of Transportation on behalf of Teton Village | D2023-LWNO-088/D2023-LWNO-089 | Purchase battery electric buses and chargers | 945,178
Total |  |  |  | 1,216,941,397

Table 2—FY 2023 Buses and Bus Facilities Project Selections
[Note: some projects have multiple project IDs]
State | Recipient | Project ID | Project description | Award
AZ | Northern Arizona Intergovernmental Public Transportation Authority | D2023-BUSC-001/D2023-BUSC-002 | Maintenance facility improvements | $16,358,000
CA | City of Norwalk—Norwalk Transit System | D2023-BUSC-003 | Bus stop improvements | 1,055,365
CA | Marin County Transit District | D2023-BUSC-004 | Electric vehicle charging and maintenance facility | 31,535,000
CA | San Francisco Municipal Transportation Agency | D2023-BUSC-005 | Electric vehicle infrastructure | 30,128,378
CA | Santa Cruz Metropolitan Transit District | D2023-BUSC-006 | Purchase hydrogen fuel cell electric buses and construct a hydrogen fueling station | 20,381,950
CA | Solano County Transit | D2023-BUSC-007 | Purchase battery electric buses and charging infrastructure | 12,458,500
CA | State of California on behalf of Fresno County Rural Transit Agency | D2023-BUSC-008 | Purchase electric charging infrastructure, including solar panels | 2,162,886
CA | State of California on behalf of Kern Regional Transit | D2023-BUSC-009 | Purchase replacement buses | 2,932,500
CO | The Colorado Department of Transportation (CDOT) on behalf of ECO Transit | D2023-BUSC-010 | Rehabilitating a vehicle storage facility to include a geothermal heating system | 1,506,618
CO | The Colorado Department of Transportation (CDOT) on behalf of San Miguel Authority for Regional Transportation | D2023-BUSC-011 | Purchase replacement buses | 233,760
FL | City of Tallahassee | D2023-BUSC-012 | Purchase battery electric buses and associated facility | 20,370,793
IA | Iowa Department of Transportation (Iowa DOT) on behalf of MTA, RBT, HIRTA, SWITA, and Coralville | D2023-BUSC-013 | Purchase battery electric buses and associated facilities and equipment | 17,853,710
IL | Illinois Department of Transportation on behalf of 33 subrecipients | D2023-BUSC-014 | Replacement of paratransit vehicles | 12,600,000
IL | Madison County Mass Transit District | D2023-BUSC-015 | Purchase replacement buses | 1,080,000
IN | Fort Wayne Public Transportation Corporation | D2023-BUSC-016 | Facility rehabilitation, including new fuel storage system | 1,280,000
IN | Greater Lafayette Public Transportation Corporation dba GLPTC | D2023-BUSC-017 | Purchase hydrogen fuel cell buses and construct a fueling station | 7,598,425
KY | Kentucky Transportation Cabinet on behalf of 10 rural transit agencies | D2023-BUSC-018 | Purchase expansion and replacement vehicles, transit equipment and facilities renovations for rural agencies | 11,570,906
ME | City of Bangor, Community Connector | D2023-BUSC-019 | Rehabilitation of a bus storage facility | 7,852,320
MI | Michigan Department of Transportation on behalf of 4 rural transit agencies | D2023-BUSC-020/D2023-BUSC-021 | Vehicle replacements, facilities upgrades, and purchase and installation of scheduling and dispatch software | 514,002
MI | Michigan Department of Transportation on behalf of Interurban Transit Authority | D2023-BUSC-022 | Includes a transit facility repair and expansion project, and construction of a new multimodal rural transportation hub | 10,700,000
MN | City of Rochester, Minnesota | D2023-BUSC-023 | Construction of Park-and-Ride Transit Parking Deck | 7,440,000
MO | Kansas City Area Transportation Authority | D2023-BUSC-024 | Renovation for a bus storage and battery electric vehicle charging facility | 10,388,000
NC | City of Charlotte—Charlotte Area Transit System | D2023-BUSC-025 | Purchase battery electric and hybrid battery electric vehicles and associated charging infrastructure and equipment | 30,890,413
NC | City of High Point | D2023-BUSC-026 | Transit maintenance facility expansion and parking lot rehabilitation | 1,200,000
NC | North Carolina Department of Transportation on behalf of AppalCART | D2023-BUSC-027 | Purchase battery electric buses and a charger | 2,207,758
NC | North Carolina Department of Transportation on behalf of Columbus County Transportation | D2023-BUSC-028/D2023-BUSC-029 | Intermodal transit facility expansion | 280,800
NC | Town of Chapel Hill | D2023-BUSC-030 | Bus stop accessibility and infrastructure improvements | 2,160,000
NJ | New Jersey Transit Corporation | D2023-BUSC-031 | Bus garage facility improvements | 47,000,000
NM | New Mexico Department of Transportation on behalf of North Central Regional Transit District | D2023-BUSC-032 | Operations and maintenance facility improvements | 5,945,553
NY | New York City Department of Transportation | D2023-BUSC-033 | Bus stop rehabilitation and safety improvements | 6,000,000
NY | Seneca Nation of Indians | D2023-BUSC-034 | Replace the Seneca Nation Department of Transportation operations facility | 5,883,200
OH | Greater Dayton Regional Transit Authority | D2023-BUSC-035 | Rehabilitation of a main bus garage, to include HVAC and roof replacement | 4,492,904
OH | METRO Regional Transit Authority | D2023-BUSC-036 | Construct new operations and maintenance facility | 37,808,113
OH | Western Reserve Transit Authority | D2023-BUSC-037 | Bus garage construction and expansion | 4,313,552
OK | Oklahoma Department of Transportation on behalf of OSU Public Transit | D2023-BUSC-038 | Bus facility expansion | 6,000,000
OR | Oregon Department of Transportation on behalf of Hood River County Transportation District | D2023-BUSC-039 | Purchase battery electric vehicles and chargers and upgrade vehicle storage facilities | 6,424,808
SC | South Carolina Department of Transportation on behalf of 25 rural transit providers | D2023-BUSC-040 | Replacement of 160 public transit vehicles | 15,423,904
SD | South Dakota Department of Transportation on behalf of ARL and CTWSI | D2023-BUSC-041 | Purchase of replacement vehicles that accommodate alternative fuels | 1,006,750
SD | South Dakota Department of Transportation on behalf of Brookings Area Transit Authority | D2023-BUSC-042/D2023-BUSC-043 | Construction of a new bus storage facility | 320,000
TN | Nashville Metropolitan Transit Authority | D2023-BUSC-044 | Construction of the Hickory Hollow Transit Center and Park & Ride Facility | 5,000,000
TX | Brazos Transit District | D2023-BUSC-045 | Zero-Emission Fleet Replacement Program | 9,650,646
UT | Utah Department of Transportation on behalf of Park City Transit | D2023-BUSC-046 | Bus Stop Redesign and Rehabilitation | 7,393,183
VA | Transportation District Commission of Hampton Roads | D2023-BUSC-047 | HRT Southside Bus Operating Facility | 25,000,000
VA | Virginia Department of Rail and Public Transportation (DRPT) | D2023-BUSC-048 | VA Rural Transit Asset Management and Equity Program | 4,690,010
WA | Skagit Transit System | D2023-BUSC-049 | Skagit Transit Maintenance Operations and Administration Facility Replacement Project | 5,000,000
WA | Washington State Department of Transportation | D2023-BUSC-050 | Island Transit-Engineering, Design and Construction of the South Whidbey Island Transit Center, a new multi-modal transit hub | 7,526,400
WA | Washington State Department of Transportation on behalf of 2 rural transit agencies | D2023-BUSC-051 | Procurement of vehicles and bus-facilities equipment | 3,303,600
Total |  |  |  | 472,922,707

[FR Doc. 2023-14193 Filed 7-3-23; 8:45 am]

BILLING CODE 4910-57-P